DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of application in response to Funding Opportunity Announcement (FOA) PAR 15-303, Occupational Safety and Health Education and Research Centers (ERC).

Times and Dates: 8:00 a.m.-6:00 p.m., EST, February 22, 2017 (Closed), 8:00 a.m.-6:00 p.m., EST, February 23, 2017 (Closed), 8:00 a.m.-6:00 p.m., EST, February 24, 2017 (Closed).

Place: Hilton Alexandria Old Town, 1767 King Street, Alexandria, Virginia 22314, Telephone: (703) 837-0440.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Occupational Safety and Health Education and Research Centers (ERC)”, PAR 15-303.

Contact Person for More Information: Michael Goldcamp, Ph.D., Scientific Review Officer, CDC, 1095 Willowdale Road, Morg Building H, Room 1806, Mailstop 1808, Morgantown, West Virginia, Telephone: (304) 285-5951, EHG8@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-01628 Filed 1-24-17; 8:45 am]

BILLING CODE 4163-18-P